DEPARTMENT OF ENERGY

Federal Energy Regulatory Commission

[Project No. 14616-001]

Oregon State University; Notice of Application Tendered for Filing With the Commission

Take notice that the following hydroelectric application has been filed with the Commission and is available for public inspection.

a. Type of Application: Original License for Major Unconstructed Project.

b. Project No.: 14616-001.

c. Date filed: May 31, 2019.

d. Applicant: Oregon State University.

e. Name of Project: PacWave South Project.

f. Location: On the Pacific Ocean 6 nautical miles off the central Oregon coast near the city of Newport, in Lincoln County, Oregon. The project occupies 1,695 acres of United States submerged lands on the Outer Continental Shelf administered by the Bureau of Ocean Energy Management.

g. Filed Pursuant to: Federal Power Act 16 U.S.C. 791 (a)-825(r).

h. Applicant Contact: Cherise Gaffney, Stoel Rives LLP, 600 University St, Suite 3600, Seattle, WA 98101; (206) 386-7622; or email at cherise.gaffney@stoel.com.

i. FERC Contact: Jim Hastreiter at (503) 552-2760; or email at james.hastreiter@ferc.gov.

j. The application is not ready for environmental analysis at this time.

k. The proposed PacWave South Project would consist of: (1) Four offshore test berths; (2) a maximum of 20 wave energy conversion (WEC) devices with a maximum total installed capacity of 20 megawatts; (3) various WEC devices including point absorbers, oscillating water column, overtopping, attenuator, and “other” types that utilize a combination of technology designs; (4) various anchoring systems including gravity based anchors, drag anchors, and embedment anchors, consisting of steel, concrete, or a mixture of steel and concrete; (5) single- or 3-point mooring systems consisting of chain, steel cables, or synthetic materials; (6) mooring infrastructure including surface buoys, subsurface floats, and chain, wire or rope, as catenary, tendon or bridle lines; (7) subsea connectors; (8) five buried 8.3-mile-long subsea transmission cables converging in a nearshore conduit; (9) up to five onshore 10-foot by 10-foot by 10-foot cable splice vaults (beach manholes), where the subsea cables would transition to terrestrial cables; (10) five buried 0.5-mile-long subterranean transmission cables connecting to a power monitoring and conditioning facility; (11) grid-interconnection at Central Lincoln Public Utility District substation; and (12) appurtenant facilities.

l. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

m. Procedural schedule: The application will be processed according to the following preliminary Hydro Licensing Schedule. Revisions to the schedule will be made as appropriate.

Issue Notice of Application Tendered: June 2019.

Issue Notice of Application Acceptance and Soliciting Final Terms and Conditions: August 2019.

Commission issues EA: December 2019.

Dated: June 4, 2019.
Kimberly D. Bose,
Secretary.

[FR Doc. 2019-12199 Filed 6-10-19; 8:45 am]

BILLING CODE 6717-01-P